DEPARTMENT OF THE INTERIOR

National Park Service

Oil and Gas Management Plan/Environmental Impact Statement, Lake Meredith National Recreation Area and Alibates Flint Quarries National Monument, Texas

AGENCY: National Park Service, U.S. Department of the Interior.

ACTION: Notice of Intent to prepare an Oil and Gas Management Plan/Environmental Impact Statement for Lake Meredith National Recreation Area and Alibates Flint Quarries National Monument.

SUMMARY: In accordance with Section 102(2)(C) of the National Environmental Policy Act of 1969, the National Park Service is preparing an Oil and Gas Management Plan/Environmental Impact Statement for Lake Meredith National Recreation Area and Alibates Flint Quarries National Monument, Hutchinson, Moore and Potter Counties, Texas, and is initiating the scoping process for this document. This statement will be approved by the Intermountain Regional Director, National Park Service. The Bureau of Reclamation and Canadian River Municipal Water Authority are cooperating agencies.

The Oil and Gas Management Plan/Environmental Impact Statement is needed to address the issues of how the National Park Service can protect its resources and values, ensure public safety, and minimize conflicts with visitors and park management while recognizing the rights of private mineral owners to develop their oil and gas resources. In the Oil and Gas Management Plan/Environmental Impact Statement and its accompanying public involvement process, the National Park Service will formulate and evaluate the environmental impacts of a reasonable range of alternatives that will provide protection for resources and values at Lake Meredith National Recreation Area and Alibates Flint Quarries National Monument while allowing for exploration and development of the private mineral estate. Distinct management issues include identifying which park resources and values are most sensitive to oil and gas exploration and development disturbance, defining impact mitigation requirements to protect such resources and values, establishing reasonable performance standards and providing pertinent information to oil and gas owners and operators that will facilitate operations planning.

Public Information and Comments

A public scoping newsletter will be mailed in January 2000, to invite public participation in the scoping process and to describe the planning process. The general public and affected or interested parties are encouraged to provide comments and suggestions, and to identify issues and other reasonable alternatives that should be addressed in the Oil and Gas Management Plan/Environmental Impact Statement.

An Open House meeting will be held on February 9, 2000, at park headquarters in Fritch, Texas. The public and affected or interested parties may request additional meetings in other Texas cities. These requests should be made no later than January 28, 2000, to EIS Team Leader Linda Dansby or Paul Eubank at Lake Meredith National Recreation Area/Alibates Flint Quarries National Monument, at the addresses or telephone numbers provided below.

If you wish to comment, you may submit your comments by mailing them to the post office addresses provided below by March 14, 2000. Our practice is to make comments, including names and home addresses of respondents, available for public review during regular business hours. Individual respondents may request that we withhold their home address from the decisionmaking record, which we will honor to the extent allowable by law. There may also be circumstances in which we would withhold from the decisionmaking record a respondent's identify, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: If you would like to submit comments, be placed on the mailing list, or request a meeting in your city, please contact Linda Dansby, EIS Team Leader, P.O. Box 728, Santa Fe, New Mexico 87504, 505/988-6095; or Paul Eubank, Lake Meredith National Recreation Area and Alibates Flint Quarries National Monument at 806-857-3151, or P.O. Box 1460, Fritch, Texas 79036.

Dated: January 12, 2000.
John C. Benjamin,
Lake Meredith National Recreation Area and Alibates Flint Quarries National Monument.

[FR Doc. 00-1245 Filed 1-18-00; 8:45 am]

BILLING CODE 4310-70-M